DEPARTMENT OF LABOR

Employee Benefits Security Administration

224th Meeting of the Advisory Council on Employee Welfare and Pension Benefit Plans; Notice of Teleconference Meeting

Pursuant to the authority contained in Section 512 of the Employee Retirement Income Security Act of 1974 (ERISA), 29 U.S.C. 1142, the 224th open meeting of the Advisory Council on Employee Welfare and Pension Benefit Plans (also known as the ERISA Advisory Council) will be held via a teleconference on Tuesday, October 22, 2024.

The meeting will begin at 12:30 p.m. and end at approximately 5:30 p.m. The purpose of the open meeting is for the members of the ERISA Advisory Council to discuss potential recommendations for the Secretary of Labor on the issues of: (1) Claims and Appeals Procedures, and (2) Qualified Default Investment Alternatives (QDIAs)—Start to Finish, Default to Payout. Descriptions of the 2024 study topics are available on the ERISA Advisory Council's web page at https://www.dol.gov/agencies/ebsa/about-ebsa/about-us/erisa-advisory-council.

Instructions for public access to the teleconference meeting will be available on the ERISA Advisory Council's web page at https://www.dol.gov/agencies/ebsa/about-ebsa/about-us/erisa-advisory-council prior to the meeting.

Organizations or members of the public wishing to submit a written statement on the 2024 study topics may do so on or before Tuesday, October 15, 2024, to Pinar Shapiro, ERISA Advisory Council. Statements should be transmitted electronically as an email attachment in text or pdf format to ERISAAdvisoryCouncil@dol.gov. Statements transmitted electronically that are included in the body of the email will not be accepted. Relevant statements received on or before Tuesday, October 15, 2024, will be included in the record of the meeting and made available through the Employee Benefits Security Administration Public Disclosure Room. No deletions, modifications, or redactions will be made to the statements received as they are public records. Warning: Do not include any personally identifiable or confidential business information that you do not want publicly disclosed.

Individuals or representatives of organizations interested in addressing the ERISA Advisory Council at the public meeting should forward their requests to the Executive Secretary on or before Tuesday, October 15, 2024, via email to ERISAAdvisoryCouncil@dol.gov. Any oral presentation to the Council will be limited to ten minutes, but as indicated above, an extended written statement may be submitted for the record on or before October 15, 2024.

Individuals who need special accommodations should contact the Executive Secretary on or before Tuesday, October 15, 2024, via email to ERISAAdvisoryCouncil@dol.gov.

For more information about the meeting, contact the Executive Secretary at the address or telephone number above.

Signed at Washington, DC this 13th day of September, 2024.
Lisa M. Gomez,
Assistant Secretary, Employee Benefits Security Administration.

[FR Doc. 2024-21261 Filed 9-17-24; 8:45 am]

BILLING CODE 4510-29-P